DEPARTMENT OF DEFENSE

[OMB Control Number 0704-0232]

Information Collection Requirement; Defense Federal Acquisition Regulation Supplement; Contract Pricing

AGENCY: Department of Defense (DoD).

ACTION: Notice and request for comments regarding a proposed extension of an approved information collection requirement.

SUMMARY: In compliance with Section 3506(c)(2)(A) of the Paperwork Reduction Act of 1995 (44 U.S.C. Chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection requirement for use through August 31, 2004. DoD proposes that OMB extend its approval for use through August 31, 2007.

DATES: DoD will consider all comments received by August 9, 2004.

ADDRESSES: You may submit comments, identified by OMB Control Number 0704-0232, using any of the following methods:

• Defense Acquisition Regulations Web Site: http://emissary.acq.osd.mil/dar/dfars.nsf/pubcomm. Follow the instructions for submitting comments.

• E-mail: dfars@osd.mil. Include OMB Control Number 0704-0232 in the subject line of the message.

• Fax: (703) 602-0350.

• Mail: Defense Acquisition Regulations Council, Attn: Mr. Ted Godlewski, OUSD(AT&L)DPAP(DAR), IMD 3C132, 3062 Defense Pentagon, Washington, DC 20301-3062.

• Hand Delivery/Courier: Defense Acquisition Regulations Council, Crystal Square 4, Suite 200A, 241 18th Street, Arlington, VA 22202-3402.

All comments received will be posted to http://emissary.acq.osd.mil/dar/dfars.nsf.

FOR FURTHER INFORMATION CONTACT: Mr. Ted Godlewski, (703) 602-2022. The information collection requirements addressed in this notice are available electronically via the Internet at: http://www.acq.osd.mil/dp/dars/dfars.html. Paper copies are available from Mr. Ted Godlewski, OUSD(AT&L)DPAP(DAR), IMD 3C132, 3062 Defense Pentagon, Washington, DC 20301-3062.

SUPPLEMENTARY INFORMATION:

Title and OMB Number: Defense Federal Acquisition Regulation Supplement (DFARS) Subpart 215.4, Contract Pricing, and related clause in DFARS 252.215; OMB Control Number 0704-0232.

Needs and Uses: DoD contracting officers need this information to negotiate an equitable adjustment in the total amount paid or to be paid under a fixed-price redeterminable or fixed-price incentive contract, to reflect final subcontract prices; and to determine if a contractor has an adequate system for generating cost estimates, and monitor correction of any deficiencies.

Affected Public: Businesses or other for-profit and not-for-profit institutions.

Annual Burden Hours: 5,350.

Number of Respondents: 310.

Responses Per Respondent: .45.

Annual Responses: 141.

Average Burden Per Response: 37.94 hours.

Frequency: On occasion.

Summary of Information Collection

DFARS 215.404-3(a)(iv)(B) requires that, upon establishment of firm prices for each subcontract listed in a repricing modification, the contractor shall submit the subcontractor's costs incurred in performing the subcontract and the final subcontract price. This requirement applies to the pricing of a fixed-price redeterminable or fixed-price incentive contract that includes subcontracts placed on the same basis for which the contractor has not yet established final prices, if cost or pricing data is inadequate to determine whether the amounts are reasonable, but circumstances require prompt negotiation.

DFARS 215.407-5, Estimating systems, and the clause at 252.215-7002, Cost Estimating System Requirements, require that certain large business contractors—

• Establish an adequate cost estimating system and disclose the estimating system to the administrative contracting officer (ACO) in writing;

• Maintain the estimating system and disclose significant changes in the system to the ACO on a timely basis; and

• Respond in writing to written reports from the Government that identify deficiencies in the estimating system.

Michele P. Peterson,
Executive Editor, Defense Acquisition Regulations Council.

[FR Doc. 04-12933 Filed 6-7-04; 8:45 am]

BILLING CODE 5001-08-P